DEPARTMENT OF TRANSPORTATION

Federal Highway Administration

Notice of Final State Agency Actions on I-25/I-80 Interchange Project in Laramie County, Wyoming

AGENCY: Federal Highway Administration (FHWA), Transportation (DOT).

ACTION: Notice of limitation on claims for judicial review of actions by FHWA.

SUMMARY: This notice announces actions taken by the FHWA that are final. The actions relate to the I-25/I-80 Interchange Project in the City of Cheyenne in Laramie County, Wyoming. These actions grant licenses, permits, and approval of the project.

DATES: By this notice, FHWA is advising the public of final agency actions subject to 23 U.S.C. 139(l)(1). A claim seeking judicial review of the Federal agency actions on the listed highway project will be barred unless the claim is filed on or before January 29, 2021. Notwithstanding any other provision of law, a claim arising under Federal law seeking judicial review of a permit, license, or approval issued by a Federal agency for a highway or public transportation capital project shall be barred unless it is filed within 150 days after publication of a notice in the Federal Register announcing that the permit, license, or approval is final pursuant to the law under which the agency action is taken, unless a shorter time is specified in the Federal law pursuant to which judicial review is allowed.

FOR FURTHER INFORMATION CONTACT: For FHWA: Mr. Bob Bonds, Area Engineer, Federal Highway Administration, 2617 E. Lincolnway, Suite D, Cheyenne, WY 82001-5671; telephone: 307.771.2951; email: Bob.bonds@dot.gov. The FHWA Wyoming Division Office's normal business hours are 7:30 a.m. to 4:00 p.m. (Mountain Time). For the Wyoming Department of Transportation (WYDOT): Mr. Scott Gamo, Ph.D., Environmental Services Manager, 5300 Bishop Blvd., Cheyenne, WY 82002; telephone: 307-777-4379; email: scott.gamo@wyo.gov. The WYDOT office's regular business hours are 8 a.m. to 5 p.m. (Mountain Time).

SUPPLEMENTARY INFORMATION: Notice is hereby given that the FHWA has taken final agency actions subject to 23 U.S.C. 139(l)(1) by issuing licenses, permits, and approvals for the following project in the State of Wyoming: the I-25/I-80 Interchange Project in Laramie County, Wyoming. The project includes full replacement of both the Interstate I-25/I-80 and I-25/U.S. Highway 30 (Lincolnway) interchanges, lengthened merge and diverge areas, flyover ramps, auxiliary lanes, braided ramps, widening the curve along eastbound I-80 approaching the interchange, expanding the radius of remaining cloverleaf ramps, and variable message and new static signage.

The actions by FHWA, and the laws under which such actions were taken, are described in the Environmental Assessment (EA) and the Finding of No Significant Impact (FONSI). The EA was signed on May 18th, 2020. The FONSI was issued on August 24, 2020. The EA and FONSI can be viewed on the project's internet site at http://www.i25i80.com. These documents are available by contacting FHWA or WYDOT at the phone numbers and addresses provided above.

This notice applies to all Federal agency decisions on the project as of the issuance date of this notice and all laws under which such actions were taken, including but not limited to:

1. General: National Environmental Policy Act of 1969 [42 U.S.C. 4321]; Federal-Aid Highway Act [23 U.S.C. 109 and 23 U.S.C. 128]; MAP-21, the Moving Ahead for Progress in the 21st Century Act [Pub. L. 112-141].

2. Air: Clean Air Act [42 U.S.C. 7401-7671(q)].

3. Land: Section 4(f) of the Department of Transportation Act of 1966 [49 U.S.C. 303]; Landscaping and Scenic Enhancement (Wildflowers) [23 U.S.C. 319].

4. Wildlife: Endangered Species Act [16 U.S.C. 1531-1544 and Section 1536]; Fish and Wildlife Coordination Act [16 U.S.C. 661-667(d)]; Migratory Bird Treaty Act [16 U.S.C. 703-712]; The Bald and Golden Eagle Protection Act [16 U.S.C. 668].

5. Historic and Cultural Resources: Section 106 of the National Historic Preservation Act of 1966, as amended [54 U.S.C. 306108]; Archeological Resources Protection Act of 1979 [16 U.S.C. 470(aa)]; Archeological and Historic Preservation Act [54 U.S.C. 312501 et seq.].

6. Social and Economic: Civil Rights Act of 1964 [42 U.S.C. 2000(d) et seq.]; American Indian Religious Freedom Act [42 U.S.C. 1996]; Farmland Protection Policy Act (FPPA) [7 U.S.C. 4201 et seq.].

7. Wetlands and Water Resources: Clean Water Act (Section 404, Section 401, Section 319) [33 U.S.C. 1251 et seq.]; Safe Drinking Water Act (SDWA), as amended [42 U.S.C. 300(f) et seq.]; Rivers and Harbors Act of 1899 [33 U.S.C. 401-406]; Emergency Wetlands Resources Act [16 U.S.C. 3921, 3931]; TEA-21 Wetlands Mitigation [23 U.S.C. 103(b)(6)(M, 133(b)(11)]; Flood Disaster Protection Act [42 U.S.C. 4001-4128].

8. Hazardous Materials: Comprehensive Environmental Response, Compensation, and Liability Act [42 U.S.C. 9601-9675]; Superfund Amendments and Reauthorization Act of 1986; Resource Conservation and Recovery Act [42 U.S.C. 6901-6992(k)].

9. Noise: Federal-Aid Highway Act of 1970, Public Law 91-605 [84 Stat. 1713]; 23 U.S.C. 109(h) & (i).

10. Executive Orders: E.O. 11990 Protection of Wetlands; E.O. 11988 Floodplain Management; E.O. 12898, Federal Actions to Address Environmental Justice in Minority Populations and Low-Income Populations; E.O. 11593 Protection and Enhancement of Cultural Resources; E.O. 13287 Preserve America; E.O. 13175 Consultation and Coordination with Indian Tribal Governments; E.O. 11514 Protection and Enhancement of Environmental Quality; E.O. 13112 Invasive Species.

(Catalog of Federal Domestic Assistance Program No. 20.205, Highway Research, Planning and Construction. The regulations implementing Executive Order 12372 regarding intergovernmental consultation on Federal programs and activities apply to this program.)

Authority: 23 U.S.C. 139(l)(1).

Issued on: August 27, 2020.
Bryan Cawley,
Division Administrator, Federal Highway Administration.

[FR Doc. 2020-19277 Filed 8-31-20; 8:45 am]

BILLING CODE 4910-22-P